DEPARTMENT OF LABOR

Employment and Training Administration

Investigations Regarding Certifications of Eligibility to Apply for NAFTA Transitional Adjustment Assistance

Petitions for transitional adjustment assistance under the North American Free Trade Agreement-Transitional Adjustment Assistance Implementation Act Pub. L. 103-182), hereinafter called (NAFTA-TAA), have been filed with State Governors under section 250(b)(1) of Subchapter D, Chapter 2, Title II, of the Trade Act of 1974, as amended, are identified in the Appendix to this Notice. Upon notice from a Governor that a NAFTA-TAA petition has been received, the Director of the Division of Trade Adjustment Assistance (DTAA), Employment and Training Administration (ETA), Department of Labor (DOL), announces the filing of the petition and takes action pursuant to paragraphs (c) and (e) of section 250 of the Trade Act.

The purpose of the Govenor's actions and the Labor Department's investigations are to determine whether the workers separated from employment on or after December 8, 1993 (date of enactment of P.L. 103-182) are eligible to apply for NAFTA-TAA under Subchapter D of the Trade Act because of increased imports from or the shift in production to Mexico or Canada.

The petitioners or any other persons showing a substantial interest in the subject matter of the investigations may request a public hearing with the Director of DTAA at the U.S. Department of Labor (DOL) in Washington, D.C. provided such request if filed in writing with the Director of DTAA not later than January 7, 2002.

Also, interested persons are invited to submit written comments regarding the subject matter of the petitions to the Director of DTAA at the address shown below not later than January 7, 2002.

Petitions filed with the Governors are available for inspection at the Office of the Director, DTAA, ETA, DOL, Room C-5311, 200 Constitution Avenue, NW., Washington, DC 20210.

Signed at Washington, DC this 11th day of December, 2001.
Edward A. Tomchick,
Director, Division of Trade Adjustment Assistance.

Subject Firm | Location | Date received at Governor's Office | Petition No. | Articles Produced
Dnkyo America (Co.) | Columbus, IN | 12/06/2001 | NAFTA-5,601 | farm equipment.
Intervet, Inc. (Co.) | Gainesville, GA | 12/04/2001 | NAFTA-5,602 | poultry vaccine.
In Vogue Apparel (Wkrs) | West Hazelton, PA | 12/07/2001 | NAFTA-5,603 | women's slacks.
Jones Aparel Group USA (Wkrs) | Bristol, PA | 12/07/2001 | NAFTA-5,604 | garments.
Hershey Foods (Co.) | Pennsburg, PA | 12/07/2001 | NAFTA-5,605 | confectionary products.
Cooper Standard Automotive (Wkrs) | Fairview, MI | 12/07/2001 | NAFTA-5,606 | automotive rubber tubing.
ANR Pipeline (Wkrs) | Detroit, MI | 12/05/2001 | NAFTA-5,607 | natural gas transmission.
TRW Aeronavtical Systems (Wkrs) | Aurora, OH | 12/06/2001 | NAFTA-5,608 | generators.
Key Industries (Co.) | Buffalo, MO | 12/05/2001 | NAFTA-5,609 | coverall, overalls and jackets.
General Electric Transportation Global (Wkrs) | Grain Valley, MO | 12/05/2001 | NAFTA-5,610 | railroad electronic & communications.
Stylemaster Apparel (Wkrs) | Union, MO | 12/05/2001 | NAFTA-5,611 | men's and women's baseball caps etc.
Domestic Corp. (UAW) | LaGrange, IN | 12/03/2001 | NAFTA-5,612 | air conditioners.
Hibbing Taconite—Cliffs Mining (Wrks) | Hibbing, MN | 12/04/2001 | NAFTA-5,613 | semi finished slabs & finished steel.
Emerson Electronic Connector Components (Wkrs) | Waseca, MN | 12/04/2001 | NAFTA-5,614 | RF coaxial connector assemblies.
Kurt Manufacturing (Wkrs) | Minneapolis, MN | 12/05/2001 | NAFTA-5,615 | machine die cast.
Midland Steel Products (Co.) | Janesville, WI | 12/05/2001 | NAFTA-5,616 | steel.
Electronic Assembly Corp. (Wkrs) | Neenak, WI | 12/04/2001 | NAFTA-5,617 | electronic products.
Cherry Automative (Wkrs) | Pleasant Prairie, WI | 11/13/2001 | NAFTA-5,618 | electronic products.
Graham Tech (Co.) | Cochranton, PA | 12/07/2001 | NAFTA-5,619 | gaging.
EM Solutions (Wkrs) | Longmont, CO | 12/06/2001 | NAFTA-5,620 |
Biltwell Clothing—Rector Sportwear (Co.) | Rector, AZ | 12/05/2001 | NAFTA/05/2001 | men's tailored pants and slacks.
Lexmark International (Co.) | Lexington, KY | 12/05/2001 | NAFT-5,622 | inkjet printers and cartridges.
Protel, Inc. (Wkrs) | Lakeland, FL | 12/03/2001 | NAFTA-5,623 | pay phones.
AVX Corporation (Wkrs) | Vancouver, WA | 12/04/2001 | NAFTA-5,624 | electronic capacitor.
Alcatel USA Marketing | Andover, MA | 11/30/3001 | NAFTA-5,625 | router.
Milmaukee Electric (Wkrs) | Blytterville, AR | 12/05/2001 | NAFTA-5,626 | electric power tools.
Freightliner PMP (Wkrs) | Gastonia, NC | 12/04/2001 | NAFTA-5,627 | trucks and parts.
Cooper Bussman (Wkrs) | Goldsboro, NC | 12/05/2001 | NAFTA-5,628 | fuses & fuseholders.
ASARCO (Co.) | Strawberry Plains, TN | 12/05/2001 | NAFTA-5,629 | zinc.
Meridian Automotive Systems (UAW) | Controlia, IL | 11/30/2001 | NAFTA-5,630 | fixtures, water jets, heat shield molds.
VF Jeanswear Limited Partnership (Wkrs) | Shenandoah, VA | 12/05/2001 | NAFTA-5,631 | men's and women's bluejeans & casualwear.
VF Jeanswear Limited Partnership (Wkrs) | El Paso, TX | 12/07/2001 | NAFTA-5,632 | men's and women's pants.
Evergreen Wholesale Florist (Wkrs) | Seattle, WA | 12/10/2001 | NAFTA-5,633 | florist—flower arrangement.

[FR Doc. 01-31633 Filed 12-26-01; 8:45 am]

BILLING CODE 4510-30-M